DEPARTMENT OF LABOR

Employment and Training Administration

[TA-W-85,104]

Fisher and Ludlow A Nucor Company Saegertown, Pennsylvania; Notice of Affirmative Determination Regarding Application for Reconsideration

By application dated May 2, 2014, a representative of United Steelworkers, District 10, requested administrative reconsideration of the negative determination regarding workers' eligibility to apply for Alternative Trade Adjustment Assistance (ATAA) applicable to workers and former workers of Fisher and Ludlow, a Nucor Company, Saegertown, Pennsylvania. The determination was issued on April 8, 2014 and the Department's Notice of determination was published in the Federal Register on April 29, 2014 (79 FR 24018).

The group eligibility requirements for workers of a firm under Section 246(a)(3)(A)(ii) of the Trade Act are satisfied if the following criteria are met:

(I) Whether a significant number of workers in the workers' firm are 50 years of age or older;

(II) Whether the workers in the workers' firm possess skills that are not easily transferable; and

(III) The competitive conditions within the workers' industry (i.e., conditions within the industry are adverse).

The negative determination for ATAA was based on the Department's findings that Section 246(a)(3)(A)(ii)(II) was not been met because the workers in the workers' firm possess skills that are easily transferrable and Section 246(a)(3)(A)(ii)(III) was not been met because conditions within the workers' industry are not adverse.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The request for reconsideration asserts that the workers in the workers' firm possess skills that are not easily transferrable and that conditions within the workers' industry are adverse. The request provides facts not previously considered to support the assertions.

The Department of Labor has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 28th day of May, 2014.
Del Min Amy Chen,
Certifying Officer, Office of Trade Adjustment Assistance.

[FR Doc. 2014-13877 Filed 6-12-14; 8:45 am]

BILLING CODE 4510-FN-P